DEPARTMENT OF LABOR

Employment and Training Administration

[TA-W-63,182]

Stark Candy Company, a Division of New England Confectionary Company, Pewaukee, WI; Notice of Termination of Investigation

Pursuant to Section 221 of the Trade Act of 1974, as amended, an investigation was initiated on April 14, 2008 in response to a worker petition filed by a company official on behalf of workers of Stark Candy Company, a division of New England Confectionary Company, Pewaukee, Wisconsin.

The petitioner has requested that the petition be withdrawn. Consequently, the investigation has been terminated.

Signed at Washington, DC, this 20th day of May 2008.
Richard Church,
Certifying Officer, Division of Trade Adjustment Assistance.

[FR Doc. E8-11906 Filed 5-28-08; 8:45 am]

BILLING CODE 4510-FN-P